DEPARTMENT OF HEALTH AND HUMAN SERVICES

Substance Abuse and Mental Health Services Administration (SAMHSA)

Notice of a Meeting

Pursuant to Public Law 92-463, notice is hereby given of a meeting of the Substance Abuse and Mental Health Services Administration (SAMHSA) National Advisory Council in May 2000.

The meeting will be open and will include the Administrator's update, follow up to the January 20-21 SAMHSA National Advisory Council meeting and the May 10-11 SAMHSA Joint Council Meeting, status reports by the Council's workgroups on Parity and Co-occurring Addictive and Mental Health Disorders, discussion on the Household Survey on Drug Abuse and the fiscal year 2001 Budget, and a discussion on SAMHSA's Technical Assistance Project (a process for collecting customer satisfaction and outcome data being provided through the Block Grants), and other issues of interest.

Attendance by the public will be limited to space available. Public comments are welcome. Please communicate with the individual listed as contact below to make arrangements to comment or to request special accommodations for persons with disabilities.

Substantive program information, a summary of the meeting, and a roster of Council members may be obtained from the contact whose name and telephone number is listed below.

Committee Name: SAMHSA National Advisory Council.

Date/Time: May 12, 2000, 9 a.m. to 2:50 p.m.

Place: Bethesda Marriott Pooks Hill Hotel, 5151 Pooks Hill Road, Bethesda, Maryland 20814.

Open: May 12, 2000, 9 a.m. to 2:50 p.m.

Contact: Toian Vaughn, Executive Secretary, 5600 Fishers Lane, Room 17-89, Rockville, MD 20857, Telephone: (301) 443-4266; FAX: (301) 443-1587 and e-mail: tvaughn@samhsa.gov.

Dated: April 18, 2000.
Toian Vaughn,
Committee Management Officer/Executive Secretary, Substance Abuse and Mental Health Services Administration.

[FR Doc. 00-10361 Filed 4-25-00; 8:45 am]

BILLING CODE 4162-20-P